DEPARTMENT OF VETERANS AFFAIRS

Advisory Committee on Prosthetics and Special Disabilities Programs; Notice of Meeting

The Department of Veterans Affairs (VA) gives notice under Public Law 92-463 (Federal Advisory Committee Act) that a meeting of the Advisory Committee on Prosthetics and Special Disabilities Programs will be held October 3-4, 2006, in Room 230, VA Central Office, 810 Vermont Avenue, NW., Washington, DC. The meeting will convene at 8:30 a.m. on both days. On October 3, it will adjourn at 4:30 p.m., and on October 4 at 12 noon. The meeting is open to the public.

The purpose of the Committee is to advise the Secretary of Veterans Affairs on VA's prosthetic programs designed to provide state-of-the-art prosthetics and the associated rehabilitation research, development, and evaluation of such technology. The Committee also provides advice to the Secretary on special disability programs which are defined as any program administered by the Secretary to serve veterans with spinal cord injury, blindness or vision impairment, loss of or loss of the use of extremities, deafness or hearing impairment, or other serious incapacities in terms of daily life functions.

There will be presentations by various Veterans Health Administration officials throughout the meeting. On the morning of October 3, the Committee will be briefed by the Chief Consultant, Rehabilitation Services, and the Director, Physical Medicine and Rehabilitation. In the afternoon, there will be briefings from the Director of Ophthalmology and Optometry, and the Chief Prosthetics and Clinical Logistics Officer. On the morning of October 4, the Committee will be briefed by the Chief Research and Development Officer.

No time will be allocated for receiving oral presentations from the public. However, members of the public may direct questions or submit written statements for review by the Committee in advance for the meeting to Ms. Cynthia Wade, Designated Federal Officer, Veterans Health Administration, Patient Care Services, Rehabilitation Services (117), Department of Veterans Affairs, 810 Vermont Avenue, NW., Washington, DC 20420. Any member of the public wishing to attend the meeting should contact Ms. Wade at (202) 273-8485.

Dated: September 12, 2006.
By direction of the Secretary.
E. Philip Riggin,
Committee Management Officer.

[FR Doc. 06-7762 Filed 9-18-06; 8:45 am]

BILLING CODE 8320-01-M